DEPARTMENT OF THE INTERIOR

Fish and Wildlife Service

Draft Revised Recovery Plan for the Attwater's Prairie-Chicken (Tympanuchus cupido attwateri)

AGENCY: Fish and Wildlife Service, Interior.

ACTION: Notice of document availability.

SUMMARY: We, the U.S. Fish and Wildlife Service (Service), announce the availability of the draft revised recovery plan for the Attwater's prairie-chicken (Tympanuchus cupido attwateri). This is the second revision of the recovery plan for this species; the original was completed in 1983. We are soliciting review and comment from the public on this draft revised recovery plan.

DATES: To ensure consideration, we must receive comments by January 18, 2008.

ADDRESSES: You may obtain copies of the recovery plan on CD from the Refuge Manager, U.S. Fish and Wildlife Service, Attwater Prairie Chicken National Wildlife Refuge, P.O. Box 519, Eagle Lake, Texas 77434, or download it from the Internet at http://www.fws.gov/endangered (type “Attwater's” in the species search field).

FOR FURTHER INFORMATION CONTACT: Terry Rossignol, Refuge Manager, Attwater Prairie Chicken National Wildlife Refuge, P.O. Box 519, Eagle Lake, Texas 77434; telephone 979-234-3021, ext. 13, facsimile 979-234-3278, e-mail: terry_rossignol@fws.gov.

SUPPLEMENTARY INFORMATION:

Background

The Endangered Species Act of 1973 (Act), as amended (16 U.S.C. 1531 et seq.) requires the development of recovery plans for listed species unless such a plan would not promote the conservation of a particular species. Section 4(f) of the Act, as amended in 1988, requires that public notice and an opportunity for public review and comment be provided during recovery plan development. The Service considers all information provided during a public comment period prior to approval of each new or revised recovery plan. The Service and others take these comments into account in the course of implementing recovery plans.

The Attwater's prairie-chicken was listed as Endangered with Extinction in 1967. This listing was “grandfathered” into the Endangered Species Act of 1973. Critical habitat has not been designated for this species. Attwater's prairie-chickens occur only in coastal prairie habitats of Texas in the United States. Fewer than 50 individuals exist in the wild at 2 locations, and approximately 150 Attwater's are in captivity at 7 sites. With so few individuals surviving, the population remains in imminent danger of extinction. Habitat destruction and degradation, and to a lesser extent over harvesting, are the primary factors contributing to historic population declines. Current threats include extremely small populations, habitat and population fragmentation resulting in genetic isolation, diseases and parasites in both the wild and captive setting, inability of captive breeding facilities to produce large numbers of captively-reared birds that are capable of survival and reproduction in wild habitats, and poor brood survival in wild populations.

The revised recovery plan includes scientific information about the species and provides objectives and actions needed to recover the Attwater's prairie-chicken and ultimately remove it from the list of threatened and endangered species. Recovery actions designed to achieve these objectives include restoration of a network of large, high quality grasslands within a large (greater than 100 linear miles) geographic area to minimize threats from catastrophic weather and allow for gene flow among populations, maintenance of 90 percent of original gene diversity in a captive flock of 200 for 20 years, increasing production of the captive flock to allow for release at multiple sites, establishment of multiple greater than 500-bird populations within the grassland network, and broadening public support and partner efforts to conserve the Attwater's and its coastal prairie ecosystem.

The current recovery goal is to protect and ensure the survival of the Attwater's prairie-chicken and its habitat, allowing the population to reach a measurable level of ecological and genetic stability so that it can be reclassified to threatened status (downlisted) and ultimately removed from the endangered species list (delist). Downlisting can be considered when the population maintains a minimum of 3,000 breeding adults annually over a 5-year period. These birds should be distributed along a linear distance of no less then 50 miles to mitigate for environmental stochasticity (e.g., hurricanes, drought) while maintaining gene flow. Delisting can be considered when the population reaches a minimum of 6,000 breeding adults over a 10-year period, and occupies habitats along a linear distance of no less than 100 miles. We estimate approximately 50 years will be required to achieve the delisting criteria.

Public Availability of Comments

Before including your address, phone number, e-mail address, or other personal identifying information in your comment, you should be aware that your entire comment, including your personal identifying information, may be made publicly available at any time. While we will try to honor your written request to withhold your personal identifying information from public review, we cannot guarantee that we will be able to do so.

Authority

The authority for this action is section 4(f) of the Endangered Species Act, 16 U.S.C. 1533(f).

Dated: October 23, 2007.
Christopher T. Jones,
Acting Regional Director, Regions 2.

[FR Doc. 07-5705 Filed 11-16-07; 8:45 am]

BILLING CODE 4310-55-M